DEPARTMENT OF HOMELAND SECURITY

Federal Emergency Management Agency

[Docket ID FEMA-2019-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Arkansas: Benton (FEMA Docket No.: B-1952). | City of Bentonville (18-06-3818P). | The Honorable Stephanie Orman, Mayor, City of Bentonville, 117 West Central Avenue, Bentonville, AR 72712. | Department of Public Works, 3200 Southwest Municipal Drive, Bentonville, AR 72712. | Nov. 25, 2019 | 050012
Colorado:
Adams (FEMA Docket No.: B-1954). | City of Thornton (18-08-1051P). | The Honorable Heidi Williams, Mayor, City of Thornton, 9500 Civic Center Drive, Thornton, CO 80229. | City Hall, 12450 Washington Street, Thornton, CO 80241. | Nov. 29, 2019 | 080007
Adams (FEMA Docket No.: B-1954). | City of Westminster (18-08-1051P). | The Honorable Herb Atchison, Mayor, City of Westminster, 4800 West 92nd Avenue, Westminster, CO 80031. | City Hall, 4800 West 92nd Avenue, Westminster, CO 80031. | Nov. 29, 2019 | 080008
Chaffee (FEMA Docket No.: B-1943). | City of Salida (19-08-0038P). | The Honorable P.T. Wood, Mayor, City of Salida, 448 East 1st Street, Suite 112, Salida, CO 81201. | City Hall, 448 East 1st Street, Suite 112, Salida, CO 81201. | Oct. 10, 2019 | 080031
Connecticut: New Haven (FEMA Docket No.: B-1958). | Town of Branford (19-01-0945P). | The Honorable James B. Cosgrove, First Selectman, Town of Branford, Board of Selectmen, 1019 Main Street, Branford, CT 06405. | Engineering Department, 1019 Main Street, Branford, CT 06405. | Nov. 15, 2019 | 090073
Florida:
Duval (FEMA Docket No.: B-1958). | City of Jacksonville (18-04-6836P). | The Honorable Lenny Curry, Mayor, City of Jacksonville, 117 West Duval Street, Suite 400, Jacksonville, FL 32202. | Development Department, 214 North Hogan Street, Suite 2100, Jacksonville, FL 32202. | Nov. 21, 2019 | 120077
Hendry (FEMA Docket No.: B-1954). | Unincorporated areas of Hendry County, (18-04-7584P). | The Honorable Mitchell Wills, Chairman, Hendry County, Board of Commissioners, P.O. Box 1760, LaBelle, FL 33975. | Hendry County, Engineering Department, 99 East Cowboy Way, LaBelle, FL 33935. | Nov. 22, 2019 | 120107
Lee (FEMA Docket No.: B-1954). | Unincorporated areas of Lee County (18-04-7584P). | The Honorable Roger Desjarlais, Lee County Manager, P.O. Box 398, Fort Myers, FL 33902. | Lee County, Department of Community Development, 1500 Monroe Street, Fort Myers, FL 33901. | Nov. 22, 2019 | 125124
Lee (FEMA Docket No.: B-1958). | Town of Fort Myers Beach (19-04-4644P). | The Honorable Anita Cereceda, Mayor, Town of Fort Myers Beach, 2525 Estero Boulevard, Fort Myers Beach, FL 33931. | Community Development Department, 2525 Estero Boulevard, Fort Myers Beach, FL 33931. | Nov. 18, 2019 | 120673
Miami-Dade (FEMA Docket No.: B-1952). | City of Doral (19-04-0513P). | The Honorable Juan C. Bermudez, Mayor, City of Doral, 8401 Northwest 53rd Terrace, 3rd Floor, Doral, FL 33166. | City Hall, 8401 Northwest 53rd Terrace, 3rd Floor, Doral, FL 33166. | Nov. 18, 2019 | 120041
Monroe (FEMA Docket No.: B-1958). | Village of Islamorada (19-04-3903P). | The Honorable Deb Gillis, Mayor, Village of Islamorada, 86800 Overseas Highway, Islamorada, FL 33036. | Building Department, 86800 Overseas Highway, Islamorada, FL 33036. | Nov. 29, 2019 | 120424
Sarasota (FEMA Docket No.: B-1952). | City of Sarasota (19-04-3550P). | The Honorable Liz Alpert, Mayor, City of Sarasota, 1565 1st Street, Room 101, Sarasota, FL 34236. | Development Services Department, 1565 1st Street, Sarasota, FL 34236. | Nov. 13, 2019 | 125150
Georgia:
DeKalb (FEMA Docket No.: B-1954). | City of Dunwoody (18-04-6945P). | The Honorable Denis Shortal, Mayor, City of Dunwoody, 4800 Ashford Dunwoody Road, Dunwoody, GA 30338. | Community Development Department, 4800 Ashford Dunwoody Road, Dunwoody, GA 30338. | Nov. 22, 2019 | 130679
Fulton (FEMA Docket No.: B-1954). | City of Sandy Springs (18-04-6945P). | The Honorable Rusty Paul, Mayor, City of Sandy Springs, 1 Galambos Way, Sandy Springs, GA 30328. | Community Development Department, 1 Galambos Way, Sandy Springs, GA 30328. | Nov. 22, 2019 | 130669
Maryland:
Frederick (FEMA Docket No.: B-1954). | City of Frederick (19-03-0460P). | The Honorable Michael O'Connor, Mayor, City of Frederick, 101 North Court Street, Frederick, MD 21701. | Public Works, Engineering Department, 140 West Patrick Street, Frederick, MD 21701. | Nov. 19, 2019 | 240030
Frederick (FEMA Docket No.: B-1954). | Unincorporated areas of Frederick County (19-03-0460P). | The Honorable Jan H. Gardner, Frederick County Executive, 12 East Church Street, Frederick, MD 21701. | Frederick County, Department of Development Review, Zoning Administration, 30 North Market Street, Frederick, MD 21701. | Nov. 19, 2019 | 240027
Montana: Sanders (FEMA Docket No.: B-1952). | Unincorporated areas of Sanders County (19-08-0298P). | The Honorable Anthony B. Cox, Presiding Officer, Sanders County Board of Commissioners, P.O. Box 519, Thompson Falls, MT 59873. | Sanders County Land Services Department, 1111 Main Street, Thompson Falls, MT 59873. | Nov. 15, 2019 | 300072
Oklahoma: Bryan (FEMA Docket No.: B-1954). | Town of Calera (19-06-0163P). | The Honorable Brenton Rucker, Mayor, Town of Calera, 110 West Main Street, Calera, OK 74730. | Town Hall, 110 West Main Street, Calera, OK 74730. | Nov. 25, 2019 | 400354
Tennessee: Hamilton (FEMA Docket No.: B-1958). | City of Collegedale (19-04-1351P). | The Honorable Katie A. Lamb, Mayor, City of Collegedale, 4910 Swinyar Drive, Collegedale, TN 37315. | Building and Codes Department, 4910 Swinyar Drive, Collegedale, TN 37315. | Nov. 18, 2019 | 475422
Texas:
Bastrop (FEMA Docket No.: B-1954). | City of Bastrop (19-06-0976P). | The Honorable Connie Schroeder, Mayor, City of Bastrop, P.O. Box 427, Bastrop, TX 78602. | City Hall, 1311 Chestnut Street, Bastrop, TX 78602. | Nov. 18, 2019 | 480022
Bastrop (FEMA Docket No.: B-1954). | Unincorporated areas of Bastrop County (19-06-0976P). | The Honorable Paul Pape, Bastrop County Judge, 804 Pecan Street, Bastrop, TX 78602. | Bastrop County Engineering and Development Department, 211 Jackson Street, Bastrop, TX 78602. | Nov. 18, 2019 | 481193
Ector (FEMA Docket No.: B-1952). | City of Odessa (18-06-3857P). | The Honorable David Turner, Mayor, City of Odessa, P.O. Box 4398, Odessa, TX 79760. | City Hall, 411 West 8th Street, 4th Floor, Odessa, TX 79761. | Nov. 18, 2019 | 480206
Harris (FEMA Docket No.: B-1958). | Unincorporated areas of Harris County (18-06-3326P). | The Honorable Lina Hidalgo, Harris County Judge, 1001 Preston Street, Suite 911, Houston, TX 77002. | Harris County Permit Office, 10555 Northwest Freeway, Suite 120, Houston, TX 77092. | Nov. 18, 2019 | 480287
McLennan (FEMA Docket No.: B-1952). | City of Woodway (18-06-3769P). | Mr. Shawn Oubre, Manager, City of Woodway, 922 Estates Drive, Woodway, TX 76712. | Community Services and Development Department, 924 Estates Drive, Woodway, TX 76712. | Nov. 19, 2019 | 480462
McLennan (FEMA Docket No.: B-1952). | Unincorporated areas of McLennan County (18-06-3769P). | The Honorable Scott M. Felton, McLennan County Judge, 501 Washington Avenue, Room 214, Waco, TX 76701. | McLennan County Engineering and Mapping Department, 215 North 5th Street, Suite 130, Waco, TX 76701. | Nov. 19, 2019 | 480456
Tarrant (FEMA Docket No.: B-1954). | City of Mansfield (19-06-0853P). | The Honorable David L. Cook, Mayor, City of Mansfield, 1200 East Broad Street, Mansfield, TX 76063. | Department of Zoning and Planning, 1200 East Broad Street, Mansfield, TX 76063. | Nov. 29, 2019 | 480606
Tarrant (FEMA Docket No.: B-1952). | City of Fort Worth (19-06-0602P). | The Honorable Betsy Price, Mayor, City of Fort Worth, 200 Texas Street, Fort Worth, TX 76102. | Transportation and Public Works Engineering Department, 200 Texas Street, Fort Worth, TX 76102. | Nov. 14, 2019 | 480596
Travis (FEMA Docket No.: B-1954). | City of Manor (19-06-0958P). | Mr. Thomas M. Bolt, Manager, City of Manor, P.O. Box 387, Manor, TX 78653. | City Hall, 105 East Eggleston Street, Manor, TX 78653. | Dec. 2, 2019 | 481027
Webb (FEMA Docket No.: B-1948). | Unincorporated areas of Webb County (18-06-2680P) | The Honorable Tano E. Tijerina, Webb County Judge, 1000 Houston Street, 3rd Floor, Laredo, TX 78040. | Webb County Planning Department, 1110 Washington Street, Suite 302, Laredo, TX 78040. | Nov. 25, 2019 | 481059
Williamson (FEMA Docket No.: B-1958). | City of Cedar Park (19-06-0879P). | The Honorable Corbin Van Arsdale, Mayor, City of Cedar Park, 450 Cypress Creek Road, Building 1, Cedar Park, TX 78613. | Engineering Department, 450 Cypress Creek Road, Building 1, Cedar Park, TX 78613. | Nov. 21, 2019 | 481282
Williamson (FEMA Docket No.: B-1958). | Unincorporated areas of Williamson County (19-06-0879P). | The Honorable Bill Gravell, Jr., Williamson County Judge, 710 South Main Street, Suite 101, Georgetown, TX 78626. | Engineering Department, 3151 Southeast Inner Loop, Suite B, Georgetown, TX 78626. | Nov. 21, 2019 | 481079

[FR Doc. 2019-26887 Filed 12-12-19; 8:45 am]

BILLING CODE 9110-12-P